FEDERAL COMMUNICATIONS COMMISSION

47 CFR Parts 1, 2, and 27

[GN Docket No. 13-185; Report No. 3005]

Petitions for Reconsideration of Action in Rulemaking Proceeding

AGENCY: Federal Communications Commission.

ACTION: Petition for reconsideration.

SUMMARY: Petitions for Reconsideration (Petitions) have been filed in the Commission's Rulemaking proceeding by Jim Kirkland, on behalf of Trimble Navigation Limited, and Catherine Wang, on behalf of Deer & Company (jointly filed) and by Dane E. Ericksen, on behalf Engineers for the Integrity of Broadcast Auxiliary Services Spectrum.

DATES: Oppositions to the Petitions must be filed by August 21, 2014. Replies to an opposition must be filed by September 2, 2014.

ADDRESSES: Federal Communications Commission, 445 12th Street SW., Washington, DC 20554.

FOR FURTHER INFORMATION CONTACT: For additional information on this proceeding, contact Ronald Repasi, Office of Engineering and Technology, at (202) 418-0768 or ronald.repasi@fcc.gov, or Peter Daronco, Broadband Division, Wireless Telecommunications Bureau, at (202) 418-7235 or peter.daronco@fcc.gov.

SUPPLEMENTARY INFORMATION: This is a summary of Commission's document, Report No. 3005, released July 17, 2014. The full text of this document is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Amendment of the Commission's Rules with Regard to Commercial Operations in the 1695-1710 MHz, 1755-1780 MHz, and 2155-2180 MHz Bands, GN Docket No. 13-185, Report and Order, FCC 14-31, published at 79 FR 32366, June 4, 2014. Published pursuant to 47 CFR 1.429(e). See also 47 CFR 1.4(b)(1) of the Commission's rules.

Number of Petitions Filed: 2

Federal Communications Commission.
Marlene H. Dortch,
Secretary.

[FR Doc. 2014-18527 Filed 8-5-14; 8:45 am]

BILLING CODE 6712-01-P